DEPARTMENT OF COMMERCE

National Oceanic and Atmospheric Administration

[I.D. 030705A]

New England Fishery Management Council; Public Meetings

AGENCY: National Marine Fisheries Service (NMFS), National Oceanic and Atmospheric Administration (NOAA), Commerce.

ACTION: Notice of public meeting

SUMMARY: The New England Fishery Management Council (Council) is scheduling a public meeting of its Habitat/MPA/Ecosystem Oversight Committee in March, 2005 to consider actions affecting New England fisheries in the exclusive economic zone (EEZ). Recommendations from this group will be brought to the full Council for formal consideration and action, if appropriate.

DATES: The meeting will be held on March 28, 2005. See SUPPLEMENTARY INFORMATION for specific dates and times.

ADDRESSES: The meeting will be held in Newport, RI.

FOR FURTHER INFORMATION CONTACT: Paul J. Howard, Executive Director, New England Fishery Management Council (978) 465-0492. Requests for special accommodations should be addressed to the New England Fishery Management Council, 50 Water Street, Mill 2, Newburyport, MA 01950; telephone: (978) 465-0492.

SUPPLEMENTARY INFORMATION:

Time and Location of Meeting

Monday, March 28, 2005 at 12:30 p.m. - Habitat/MPA/Ecosystem Oversight Committee Meeting.

Location: Hotel Viking, One Bellevue Avenue, Newport, RI 02840; telephone: (401) 847-3300.

The Committee will meet to hear presentations on topics relating to Ecosystem Approaches to Fisheries Management. Speakers include: Staff (Integrating Ecosystem Approaches into New England fisheries management); Dr. Steve Murawski, NOAA Fisheries Director, Office of Science and Technology (An Overview of Ecosystem Approaches to Fishery Management) and Dr. Kristy Wallmo, NOAA Fisheries- Economics and Social Sciences (An Overview of the Ecosystem Management/Social Science Survey).

In addition, the Committee will provide input on various tasks toward completing the Ecosystems Approaches to Fishery Management Pilot Project and address other topics at their discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: March 7, 2005.
Alan D. Risenhoover,
Acting Director, Office of Sustainable Fisheries, National Marine Fisheries Service.

[FR Doc. E5-1013 Filed 3-9-05; 8:45 am]

BILLING CODE 3510-22-S